DEPARTMENT OF TRANSPORTATION

Federal Highway Administration

[Docket No. FHWA-2023-0049]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) for approval of a new (periodic) information collection. We published a Federal Register Notice with a 60-day public comment period on this information collection on May 26, 2023. We are required to publish this notice in the Federal Register by the Paperwork Reduction Act of 1995.

DATES: Please submit comments by December 26, 2023.

ADDRESSES: You may submit comments identified by DOT Docket ID Number 0049 by any of the following methods:

Website: For access to the docket to read background documents or comments received go to the Federal eRulemaking Portal: Go to http://www.regulations.gov. Follow the online instructions for submitting comments.

Fax: 1-202-493-2251.

Mail: Docket Management Facility, U.S. Department of Transportation, West Building, Ground Floor, Room W12-140, 1200 New Jersey Avenue SE, Washington, DC 20590-0001.

Hand Delivery or Courier: U.S. Department of Transportation, West Building, Ground Floor, Room W12-140, 1200 New Jersey Avenue SE, Washington, DC 20590, between 9 a.m. and 5 p.m. ET, Monday through Friday, except Federal holidays.

FOR FURTHER INFORMATION CONTACT: Melissa Corder, 202-366-5853, Office of Real Estate Services, Federal Highway Administration, Department of Transportation, 1200 New Jersey Avenue SE, Washington, DC 20590, between 7:30 a.m. to 4:30 p.m., Monday through Friday, except Federal holidays.

SUPPLEMENTARY INFORMATION:

Title: State Right-of-Way Operations Manuals.

OMB Control #: 2125-0586.

Background: It is the responsibility of each State Department of Transportation (State) to acquire, manage and dispose of real property in compliance with the legal requirements of State and Federal laws and regulations. Part of providing assurance of compliance is to describe in a right-of-way procedural (operations) manual the organization, policies, and procedures of the State to such an extent that these guide State employees, local acquiring agencies, and contractors who acquire and manage real property that is used for a federally funded transportation project. Procedural manuals assure the FHWA that the requirements of the Uniform Relocation Assistance and Real Property Acquisition Policies Act (Uniform Act) (implementing regulation 49 CFR 24) will be met; as well as Federal laws under Title 23 U.S.C. (implementing regulation 23 CFR 710) will be met. The State responsibility to prepare and maintain an up-to-date, right-of-way procedural manual is set out in 23 CFR 710.201(c). In addition to the scheduled manual updates, lengthy, in-depth updates of each manual will be required due to the amending of 49 CFR 24 regulations as prompted by the enactment of the Moving Ahead for Progress in the 21st Century Act (MAP-21). States are required to update manuals to reflect changes in Federal requirements for programs administered under Title 23 U.S.C (23 CFR regulations) and Title 42 U.S.C. (49 CFR 24 regulations). The regulation allows States flexibility in determining how to meet the manual requirement. This flexibility allows States to prepare manuals in the format of their choosing, to the level of detail necessitated by State complexities. Each State decides how it will provide service to individuals and businesses affected by Federal or federally assisted projects, while at the same time reducing the burden of government regulation. The updated State manuals may be submitted to FHWA electronically or made available by posting on the State website. This collection is in line with DOT's strategic goal of organizational excellence.

Respondents: Required update of manual—52 State Departments of Transportation, including the District of Columbia and Puerto Rico (52 respondents).

23 CFR 710 regulatory revisions—52 State Departments of Transportation, including District of Columbia, and Puerto Rico (52 respondents).

49 CFR 24 regulatory revisions—167 grantees (respondents) will have manuals that need to be updated.

Frequency: Regular update of manual—Annual basis and certify every 5 years.

23 CFR 710 regulatory revisions—a one-time collection.

49 CFR 24 regulatory revisions—a one-time collection.

Estimated Average Burden per Response: Regular update of manual—15 hours.

23 CFR 710 regulatory revisions—225 hours.

49 CFR 24 regulatory revisions—225 hours.

Estimated Total Annual Burden Hours:

Regular update of manual: 52 respondents × 15 hours = 780 burden hours.

23 CFR 710 regulatory revisions: 52 respondents × 225 hours = 11,700 burden hours.

49 CFR 24 regulatory revisions: 167 respondents × 225 hours = 37,575 burden hours.

Total: 780 hrs. + 11,700 hrs. + 37,575 hrs. = 50,055 total burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: November 20, 2023.
Jazmyne Lewis,
Information Collection Officer.

[FR Doc. 2023-25930 Filed 11-22-23; 8:45 am]

BILLING CODE 4910-22-P